ENVIRONMENTAL PROTECTION AGENCY

40 CFR Part 257

[EPA-HQ-OLEM-2025-2864; FRL-12968-01-OLEM]

RIN 2050-AH42

Hazardous and Solid Waste Management System: Disposal of Coal Combustion Residuals From Electric Utilities; Extension of an Alternative Closure Requirement Deadline

AGENCY: Environmental Protection Agency (EPA).

ACTION: Proposed rule; notice of public hearing.

SUMMARY: The Environmental Protection Agency (EPA or the Agency) is proposing to extend, by three years, one compliance deadline applicable to certain coal combustion residuals (CCR) surface impoundments operating pursuant to the alternative closure requirements. Specifically, EPA is extending the deadline for owners and operators to complete closure of their unlined CCR surface impoundments larger than 40 acres from October 17, 2028, to October 17, 2031. This deadline extension will promote electric grid reliability by allowing a subset of coal-fired power producers to continue to operate beyond their currently scheduled retirement date.

DATES: Comments must be received on or before January 7, 2026. Public Hearing. EPA will hold a virtual public hearing on January 6, 2026. Please refer to the SUPPLEMENTARY INFORMATION section for additional information on the public hearing.

ADDRESSES: You may send comments, identified by Docket ID No. EPA-HQ-OLEM-2025-2864, by any of the following methods:

• Federal eRulemaking Portal: https://www.regulations.gov/ (our preferred method). Follow the online instructions for submitting comments.

• Mail: U.S. Environmental Protection Agency, EPA Docket Center, Office of Land and Emergency Management (OLEM) Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m. to 4:30 p.m., Monday-Friday (except Federal Holidays).

Instructions: All submissions received must include the Docket ID No. for this rulemaking (i.e., EPA-HQ-OLEM-2025-2864). Comments received may be posted without change to https://www.regulations.gov, including personal information provided. For detailed instructions on sending comments and additional information on the rulemaking process, see the “Public Participation” heading of the SUPPLEMENTARY INFORMATION section of this document.

In accordance with 5 U.S.C. 553(b)(4), a summary of this rule may be found at www.regulations.gov.

FOR FURTHER INFORMATION CONTACT: Patrick Wise, Office of Resource Conservation and Recovery, Materials Recovery and Waste Management Division, Environmental Protection Agency, 1200 Pennsylvania Avenue NW, MC: 5304T, Washington, DC 20460; telephone number: (202) 566-0520; email address: Wise.Patrick@epa.gov; or Frank Behan, Office of Resource Conservation and Recovery, Materials Recovery and Waste Management Division, Environmental Protection Agency, 1200 Pennsylvania Avenue NW, MC: 5304T, Washington, DC 20460; telephone number: (202) 566-0531; email address: Behan.Frank@epa.gov. For more information on this rulemaking please visit https://www.epa.gov/coal-combustion-residuals.

SUPPLEMENTARY INFORMATION:

Table of Contents

I. Public Participation

II. General Information

III. Background

IV. Revised Deadline for Cessation of Operations and Unit Closure

V. The Projected Economic Impact of This Action

VI. Statutory and Executive Order Reviews

I. Public Participation

A. Written Comments

Submit your comments, identified by Docket ID No. EPA-HQ-OLEM-2025-2864, at https://www.regulations.gov (our preferred method), or the other methods identified in the ADDRESSES section. Once submitted, comments cannot be edited or removed from the docket. EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

B. Notice of Public Hearing

EPA is providing the minimum required 30-days' notice of this public hearing. EPA evaluated the complexity and technical nature of this proposed rule. The scope of this action is limited to extending one compliance deadline applicable to certain CCR surface impoundments operating pursuant to the alternative closure requirements. EPA determined this issue is not complex or highly technical and therefore 30 days' notice of the public hearing for this proposed rule was adequate to provide the public with meaningful opportunity to comment on the regulatory change.

C. Public Hearing

EPA will hold a virtual public hearing on January 6, 2026. The hearing will convene at 9:00 a.m. Eastern Time (ET) and conclude at 1:00 p.m. (ET).

EPA will begin pre-registering speakers for the virtual public hearing upon publication of this document in the Federal Register. To register to speak at the hearing, please use the online registration form available on EPA's CCR website https://www.epa.gov/coal-combustion-residuals or contact the person listed in the FOR FURTHER INFORMATION CONTACT section to register to speak at the hearing. Both virtual hearing speakers and attendees are requested to pre-register at the link provided above. The last day to pre-register to speak at the hearing will be January 2, 2026.

EPA will make every effort to follow the schedule as closely as possible on the day of the hearing; however, please plan for the hearings to run either ahead of schedule or behind schedule. Additionally, requests to speak will be taken the day of the hearing via the Q&A functionality of the online platform. EPA will make every effort to accommodate all speakers who wish to provide oral testimony, although preferences on speaking times may not be able to be fulfilled.

Each commenter will have five (5) minutes to provide oral testimony. EPA encourages commenters to provide EPA with a copy of their oral testimony electronically by emailing it to the person listed in the FOR FURTHER INFORMATION CONTACT section. EPA also recommends submitting the text of your oral comments as written comments to the rulemaking docket. If EPA is anticipating a high attendance, the time allotment per testimony may be shortened to no shorter than three (3) minutes per person to accommodate all those wishing to provide testimony and who have pre-registered. While EPA will make every effort to accommodate all speakers who do not preregister, opportunities to speak may be limited based upon the number of pre-registered speakers. Therefore, EPA strongly encourages anyone wishing to speak to preregister. Participation in the public hearing does not preclude any entity or individual from submitting a written comment.

EPA may ask clarifying questions during the oral presentations but will not respond to the presentations at that time. Written statements and supporting information submitted during the comment period will be considered with the same weight as oral comments and supporting information presented at the public hearing.

Please note that any updates made to any aspect of the hearing are posted online at EPA's CCR website at https://www.epa.gov/coal-combustion-residuals. While EPA expects the hearing to go forward as set forth above, please monitor our website or contact the person listed in the FOR FURTHER INFORMATION CONTACT section to determine if there are any updates. EPA does not intend to publish a document in the Federal Register announcing updates.

If you require the services of an interpreter or special accommodations such as audio transcription or closed captioning, please pre-register for the hearing and describe your needs on the registration form by December 17, 2025. Alternatively, registrants may notify the person listed in the FOR FURTHER INFORMATION CONTACT section of any special needs. EPA may not be able to arrange accommodations without advance notice.

II. General Information

A. Does this action apply to me?

This proposed rule may be of interest to electric utilities and independent power producers that fall within the North American Industry Classification System (NAICS) code 221112 and that submitted a complete demonstration pursuant to section 257.103(f)(2). The following eleven power plants are currently operating unlined CCR surface impoundments larger than 40 acres under a pending demonstration: Baldwin Power Station (IL), Big Cajun II Power Plant (LA), Brame Energy Center (LA), Coleto Creek Power Plant (TX), Intermountain Generating Facility (UT), Kincaid Power Station (IL), Miami Fort Power Station (OH), Naughton Power Plant (WY), Newton Power Station (IL), R.M. Schahfer Generating Station (IN), and Welsh Power Plant (TX). To determine whether your entity is regulated by this action, you should carefully examine the applicability criteria found in section 257.50 of title 40 of the Code of Federal Regulations (CFR).¹ If you have questions regarding the applicability of this action to a particular entity, consult the persons listed in the FOR FURTHER INFORMATION CONTACT section.

¹ Unless otherwise stated, all citations specified in this action are found in title 40 of the CFR.

B. What action is the Agency taking?

This proposed rule extends one compliance deadline applicable to certain impoundments currently operating pursuant to the alternative closure requirements under section 257.103(f)(2). Specifically, EPA is extending the existing deadline for owners and operators to complete closure of their unlined CCR surface impoundments larger than 40 acres from October 17, 2028, to October 17, 2031. See section 257.103(f)(2)(iv)(B). This deadline extension will promote electric grid reliability by allowing the coal-fired steam generating units at these facilities to continue to operate beyond their currently scheduled retirement dates.

C. What is the Agency's authority for taking this action?

EPA is publishing this rulemaking under the authority of sections 1008(a)(3), 2002(a), 4004, and 4005(a), (d) of the Solid Waste Disposal Act of 1965, as amended by the Resource Conservation and Recovery Act of 1976 (RCRA), as amended by the Hazardous and Solid Waste Amendments of 1984 and the Water Infrastructure Improvements for the Nation (WIIN) Act of 2016, 42 U.S.C. 6907(a), 6912(a), 6944, 6945(a) and (d).

D. What are the incremental costs and benefits of this proposed rule?

EPA establishes the requirements under RCRA sections 1008(a)(3) and 4004(a) without taking cost into account. See Utility Solid Waste Activities Group, et al. v. EPA (USWAG) 901 F.3d 414, 448-49 (D.C. Cir. 2018). The following cost estimates are presented in the Regulatory Impact Analysis (RIA) and summarized in this preamble for compliance with E.O. 12866 and consistent with OMB Circular A-4.

The RIA estimates that the annualized cost savings of this proposed rule will be approximately $7-12 million per year when discounting at 3%. The RIA estimates that the annualized cost savings of this action will be approximately $17-27 million per year when discounting at 7%. Further information on the economic effects of this action can be found in Unit V of this preamble. EPA also qualitatively considered the grid reliability and air emissions impacts of this proposed rule. Further details can be found in section V of the preamble.

III. Background

A. Summary of the Alternative Closure Requirements Under Section 257.103(f)

In April 2015, EPA issued its first set of regulations establishing requirements for CCR surface impoundments and landfills. “Hazardous and Solid Waste Management System; Disposal of Coal Combustion Residuals From Electric Utilities,” (2015 CCR Rule) 80 FR 21302 (Apr. 17, 2015). These requirements included criteria consisting of location restrictions, design and operating criteria, groundwater monitoring and corrective action requirements, closure and post-closure care requirements, recordkeeping, notification, and internet posting requirements. The closure criteria included alternative closure provisions under section 257.103. See 80 FR 21423-24.

In August 2020, EPA issued revisions to that rule, including revisions to the alternative closure requirements. “Hazardous and Solid Waste Management System: Disposal of Coal Combustion Residuals From Electric Utilities; A Holistic Approach to Closure Part A: Deadline to Initiate Closure rule,” 85 FR 53516 (Aug. 28, 2020) (the “Part A Rule”). The Part A Rule established April 11, 2021, as the date that electric utilities must cease placing waste into all unlined CCR surface impoundments. The Part A Rule also revised the alternative closure provisions of the CCR regulations (section 257.103) by allowing owners or operators to request an extension to continue to receive CCR and/or non-CCR waste streams in unlined CCR surface impoundments after April 11, 2021, provided that certain criteria are met. EPA established two site-specific alternatives to initiate closure of unlined CCR surface impoundments (section 257.103(f)), commonly known as extensions of the date to cease receipt of waste.

The first alternative is for a facility that must continue to use an unlined CCR surface impoundment after April 11, 2021, because no alternative disposal capacity is available either on-site or off-site, and it was technically infeasible to develop alternative capacity by that date. Section 257.103(f)(1) (titled Development of Alternative Capacity is Technically Infeasible). The second alternative is for coal-fired boiler(s) that are going to permanently shut down by a date certain after April 11, 2021, but there is no alternative capacity either on- or off-site that is available to accept the CCR and non-CCR waste streams between April 11, 2021, and the permanent closure date of the coal-fired boiler. Section 257.103(f)(2) (titled Permanent Cessation of Coal-Fired Boiler(s) by a Date Certain). This proposed rule only pertains to the second alternative because facilities operating under the first alternative have all already obtained alternative disposal capacity, thus allowing continued use of associated coal-fired boilers. Section 257.103(f)(2) establishes deadlines for when the facility must both cease operation of its coal-fired boiler and complete closure of the unlined surface impoundment. The existing deadlines are based on the size of the impoundment, using surface area as a surrogate for impoundment size. For impoundments that are 40 acres or smaller, owners and operators were required to cease operation of the coal-fired boiler and complete closure of the impoundment no later than October 17, 2023. For impoundments that are larger than 40 acres, the deadline is October 17, 2028. See section 257.103(f)(2)(iv).

As provided in section 257.103(f)(3)(i), November 30, 2020, was the deadline for facilities to submit requests to EPA to operate an unlined impoundment beyond April 11, 2021, pursuant to section 257.103(f)(2). As discussed in Unit IV of this preamble, this action is not revising the November 30, 2020, deadline to allow additional owners and operators to submit new time extension requests. EPA received 23 complete extension requests under section 257.103(f)(2) before the November 30, 2020, deadline, including seven facility requests with impoundments that are 40 acres or smaller and 16 facility requests with impoundments larger than 40 acres.² Of the 16 extension requests with impoundments larger than 40 acres, 11 facilities are currently operating these impoundments pursuant to section 257.103(f)(2). EPA has not yet taken action to determine whether to grant these 11 extension requests.

² EPA issued letters of completeness on January 11, 2022.

B. Facilities Currently Operating Impoundments Under Section 257.103(f)(2)

Eleven power plants are currently operating at least one unlined CCR surface impoundment under a pending extension request submitted pursuant to section 257.103(f)(2). EPA below summarizes information about these impoundments and the coal-fired steam generating units that rely on the continued operation of the unlined impoundments (i.e., CCR or non-CCR waste streams from the boilers units are being routed to the impoundment). The summaries are based on information presented in the November 2020 demonstrations prepared to support the extension request (2020 Demonstration) ³ and the most recent annual progress report required by section 257.103(f)(2)(x), if the progress report provides new relevant information.⁴ The summaries below are organized by the electric power market in which the facility falls. Five of these facilities fall within the electric power market operated by the Midcontinent Independent System Operator, two within PJM Interconnection, and one facility each in Electric Reliability Council of Texas, Northwest, Southwest, and Southwest Power Pool.

³ Demonstrations supporting the extension requests can be accessed on each facility's publicly accessible CCR website. EPA's website includes a list of publicly accessible internet sites at https://www.epa.gov/coal-combustion-residuals.

⁴ The annual progress report documents the continued lack of alternative disposal capacity and the progress towards the closure of the CCR surface impoundment(s) covered by the extension request.

1. Midcontinent Independent System Operator (MISO)

• Baldwin Power Station (Baldwin) located in Illinois. According to the 2020 Demonstration submitted by Dynegy Midwest Generation LLC (Dynegy), Baldwin is a 1,185 megawatt (MW) coal-fired electric generating station located near Baldwin, Illinois. The unlined CCR surface impoundment operating pursuant to the extension request is the Bottom Ash Pond. The time frames discussed in the 2020 Demonstration stated that the two coal-fired boilers (Units 1 and 2) would cease operations no later than December 31, 2025. Furthermore, Baldwin anticipated that all CCR and non-CCR waste streams going to the Bottom Ash Pond would cease by July 17, 2027, and closure of the impoundment would be completed by October 17, 2028. On April 2, 2025, Dynegy submitted an update to the closure schedule and closure plan (Baldwin Update) associated with its 2020 Demonstration. In the Baldwin Update, Dynegy stated that Units 1 and 2 will continue to operate for up to an additional two years to no later than December 31, 2027, due to “recent reliability and market conditions in MISO.” ⁵ Dynegy further stated in this update that closure of the Bottom Ash Pond would still be completed by October 17, 2028 (same as stated in 2020 Demonstration) because closure has already begun and is being conducted in two phases starting in 2025.

⁵ Dynegy Midwest Generation LLC, “Baldwin Power Station Alternative Closure Demonstration—Update to Schedule and Closure Plan,” April 2, 2025. See also Attachment 2 that includes “Comments from the Midcontinent Independent System Operator, Inc. regarding the Baldwin Energy Station adjusted retirement date and the need to maintain existing generation for reliability” dated December 18, 2024.

• Big Cajun II Power Plant (Big Cajun II) located in Louisiana. In November 2020, Cleco Cajun LLC (Cleco) submitted an extension request for the unlined Bottom Ash Basin located near New Roads, Louisiana. According to the 2020 Demonstration, the Bottom Ash Basin receives CCR (bottom ash) from Unit 1, which is a 580 MW coal-fired steam generating unit. The Bottom Ash Basin also receives other non-CCR waste streams (i.e., clarifier/softener underflow) from Unit 1, as well as from Unit 2 (a natural gas unit) and Unit 3 (a coal-fueled unit).⁶ Cleco stated in its 2020 Demonstration that the Unit 1 boiler is subject to a 2013 consent decree requiring that Unit 1 “cease generation of coal-fired energy by no later than April 1, 2025.” Furthermore, Big Cajun II anticipated that all waste streams going to the Bottom Ash Basin would cease by approximately March or April 2027, and closure of the impoundment will be completed by October 17, 2028. Given the existence of the consent decree, EPA believes that this rule would not allow Unit 1 to generate electricity beyond April 1, 2025; however, this action would allow the Bottom Ash Basin to be closed over a longer period should Big Cajun II need additional time.

⁶ CCR waste streams (bottom ash) from Unit 3 is dry handled and taken off-site.

• Brame Energy Center (Brame) located in Louisiana. According to the 2020 Demonstration submitted by Cleco Power LLC, Brame operates a 523 MW coal-fired steam generating unit called Rodemacher Unit 2. Brame is located in Lena, Louisiana. The unlined CCR surface impoundment operating pursuant to the extension request is the Bottom Ash Pond, which receives CCR waste streams related to Rodemacher Unit 2. The time frames discussed in the 2020 Demonstration stated that closure of the Bottom Ash Pond will be completed by no later than October 17, 2028. To meet this deadline, Cleco Power stated it plans to cease operation of Rodemacher Unit 2 by no later than August or September 2027. Brame also operates steam generating units fueled by natural gas (Unit 1) and petroleum coke (Unit 3); however, waste streams from those generating units are not disposed in the Bottom Ash Pond and therefore are not impacted by this rulemaking.

• Newton Power Station (Newton) located in Illinois. In November 2020, Illinois Power Generating Company (IPGC) submitted an extension request for the unlined Primary Ash Pond located near Newton, Illinois. According to the 2020 Demonstration, Newton is a 615 MW steam electric generating facility with one coal-fired boiler. The Primary Ash Pond receives various CCR and non-CCR waste streams. IPGC further stated that it is scheduled to cease coal-fired boiler operation no later than July 17, 2027. On October 22, 2025, IPGC submitted an update to the closure schedule and closure plan (Newton Update) associated with its 2020 Demonstration. In the Newton Update, IPGC stated that Unit 1 will continue to operate for an additional six weeks to no later than September 1, 2027, due to “recent reliability and market conditions in MISO.” ⁷ Furthermore, the schedule shows placement of all waste streams into Primary Ash Pond will cease by December, 2027, so that closure of the Primary Ash Pond will be completed by October 17, 2028.

⁷ Illinois Power Generating Company, “Newton Power Plant Alternative Closure Demonstration—Update to Schedule and Closure Plan,” October 22, 2025.

• R.M. Schahfer Generating Station (RM Schahfer) located in Indiana. At the time Northern Indiana Public Service Company (NIPSCO) submitted the 2020 Demonstration for the Waste Disposal Area, RM Schahfer operated four coal-fired boilers. The Waste Disposal Area is an unlined CCR surface impoundment that receives CCR and non-CCR waste streams associated with these boilers. By October 2021, NIPSCO permanently retired two of the four coal-fired boilers and planned to retire the remaining two coal-fired boilers in 2023.⁸ As further explained in the 2025 Annual Update,⁹ following communications with MISO in 2022, “NIPSCO identified the need to extend coal-fired generation at [RM Schahfer] beyond the originally planned 2023 retirement date.” Currently, these two coal-fired boilers are scheduled to cease coal-fired generation by December 31, 2025. Furthermore, the current schedule shows placement of all waste streams into the Waste Disposal Area by no later than September 2026, so that closure of the impoundment will be completed by October 17, 2028. The two operating coal-fired boilers have a combined generating capacity of 847 MW. NIPSCO has stated that RM Schahfer would operate its coal-fired boilers until 2028 if the proposed rule change was finalized.

⁸ WSP USW Inc. “Northern Indiana Public Service Company LLC, R.M. Schahfer Generating Station Wheatfield, Indiana, CCR Surface Impoundment No Alternative Disposal Capacity Documentation—2025 Annual Update Pursuant to Indiana Administrative Code 329 IAC 10-9-1.” Feb. 5, 2025.

⁹ Id. at 2.

2. PJM Interconnection (PJM)

• Kincaid Power Station (Kincaid) located in Illinois. In November 2020, Kincaid Generation, LLC submitted an extension request for the unlined Ash Pond located near Kincaid, Illinois. According to the 2020 Demonstration, Kincaid is a 1,108 MW steam electric generating facility with two coal-fired boilers. The Ash Pond receives various CCR and non-CCR waste streams associated with the two generating units. Kincaid Generation stated that the two coal-fired boilers will be retired no later than July 17, 2027. Furthermore, the schedule shows placement of all waste streams into Ash Pond will cease by September 17, 2027, so that closure of the Ash Pond can be completed by October 17, 2028.

• Miami Fort Power Station (Miami Fort) located in Ohio. Dynegy Miami Fort, LLC (Dynegy) stated in its 2020 Demonstration that Miami Fort is a 1,100 MW two unit (Units 7 and 8), coal-fired steam electric generating station located near North Bend, Ohio. The Miami Fort Pond System is the unlined impoundment operating pursuant to the extension request and receives CCR waste streams (bottom ash and fly ash), as well as other non-CCR waste streams. The time frames discussed in the 2020 Demonstration stated that closure of the Miami Fort Pond System will be completed by no later than October 17, 2028. To meet this deadline, Dynegy plans to cease operation of boiler Units 7 and 8 by no later than June 17, 2027, and cease placement of wastes into the impoundment by August 17, 2027.

3. Electric Reliability Council of Texas (ERCOT)

• Coleto Creek Power Plant (Coleto Creek) located in Texas. In November 2020, Coleto Creek Power, LLC submitted an extension request for the unlined Coleto Creek Primary Ash Pond located near Fannin, Texas. According to the 2020 Demonstration, the Primary Ash Pond receives CCR (bottom ash, economizer ash and mill rejects) and various non-CCR waste streams associated with the 650 MW coal-fired steam generating unit. Coleto Creek Power stated that the boiler will cease coal-fired operations no later than July 17, 2027. Furthermore, Coleto Creek anticipates that it will cease placing all waste streams into Primary Ash Pond by September 17, 2027, so that closure of the Primary Ash Pond can be completed by October 17, 2028. In its most recent annual progress report, Coleto Creek Power noted plans to convert the plant to operate on natural gas after coal-firing operations cease in 2027.¹⁰

¹⁰ Coleto Creek Power, “Annual Progress Report (§ 257.103(f)(2)(x)) for the Coleto Creek Power Plant Primary Ash Pond.” November 30, 2024.

4. Southwest Power Pool (SPP)

• J. Robert Welsh Power Plant (Welsh Plant) located in Texas. In November 2020, Southwestern Electric Power Company (SWEPCO) submitted an extension request for the Primary Bottom Ash Pond at the Welsh Plant to allow the unlined impoundment to continue to receive CCR and non-CCR waste streams. The Welsh Plant is a 1,056 MW coal-fired steam electric generating station located in Pittsburgh, Texas. The time frames discussed in the 2020 Demonstration stated that closure of the Primary Bottom Ash Pond will be completed in two phases with the first phase of closure construction beginning in February 2027. The second phase of closure construction is planned to commence in March 2028 and to coincide with the cessation of coal-fired boiler operations. Closure of the Primary Bottom Ash Pond would be completed by no later than October 17, 2028.

5. Southwest

• Intermountain Generating Facility (Intermountain) located in Utah. Intermountain Power Service Corporation (IPSC) stated in its 2020 Demonstration that Intermountain is a 1,900 MW coal-fired steam electric generating station located near Delta, Utah. The unlined CCR surface impoundments operating pursuant to the extension request are the Bottom Ash Basin and Waste Water Basin, both of which receive CCR waste streams related to the coal-fired boiler units. The time frames presented in the 2020 Demonstration state that closure of both unlined impoundments will be completed by no later than October 17, 2028. IPSC plans to cease operation of both coal-fired boilers by July 1, 2025, explaining that such plans were first announced in May 2017. IPSC further explains it is already “moving forward with plans to develop new natural gas and hydrogen-fueled electricity generation” at Intermountain. These plans were confirmed in the most recent annual progress report.¹¹

¹¹ Intermountain Power Service Corporation, “October 2024 Annual Progress Report, Documenting the Continued Lack of Alternative Capacity and the Progress Towards the Closure of the Coal-Fired Boiles.” Oct. 4, 2024.

6. Northwest

• Naughton Power Plant located in Wyoming. In November 2020, PacifiCorp submitted an extension request for the South Ash Pond at Naughton to receive bottom ash and fly ash. Non-CCR waste streams are no longer routed to the South Ash Pond. Two coal-fired boilers at Naughton provide approximately 380 MW of generating capacity. PacifiCorp states that the two coal-fired boilers will cease operation on December 31, 2025. The time frames discussed in the 2020 Demonstration show that placement of CCR waste streams will permanently cease by September 30, 2026, in order to complete closure by the regulatory deadline. PacifiCorp states in its most recent annual progress report that Naughton is on schedule to cease operating the coal-fired boilers by the end of 2025.

C. Resource Adequacy Reports Issued by NERC and U.S. DOE

1. North American Electric Reliability Corporation (NERC)

The NERC mission is to ensure the reliability, resiliency, and security of the North American bulk power system (BPS). The BPS is made up of six regional entities ¹² that provide the NERC with data, narratives, and assessments to independently evaluate long-term reliability, recognize trends, and identify emerging issues and potential risks for the upcoming 10-year period. The NERC develops a long-term reliability assessment (LTRA) annually based on known system changes as of July of the current year. The NERC is subject to oversight by the Federal Energy Regulatory Commission (FERC).

¹² The six regional entities overseen by NERC that monitor and enforce reliability standards for the BPS are: Midwest Reliability Organization (MRO), Northeast Power Coordinating Council (NPCC), ReliabilityFirst (RF), SERC Reliability Corporation (SERC), Texas Reliability Entity (Texas RE), and Western Electricity Coordinating Council (WECC).

Resource adequacy refers to the ability of an electricity system to meet the power demand of customers at all times, even during peak usage and potential outages. In the most recent LTRA released in December 2024 (2024 LTRA), the NERC identified increasing resource adequacy challenges for the upcoming 10 years as demand growth surges and power generators announce retirement plans.¹³ The NERC also identified a substantial number of the replacement generation resources as weather dependent and, thus, more variable and less reliable than the resources they would replace.

¹³ NERC, “2024 Long-Term Reliability Assessment, December 2024, Updated July 15, 2025.”

As part of its capacity and energy risk assessment, the 2024 LTRA identifies areas subject to potential future electricity supply shortfalls under normal and extreme weather conditions. The shortfall risks are categorized as “high risk,” “elevated-risk” and “normal-risk.” The 11 electric utilities covered by this interim final rule fall in areas categorized as either elevated-risk or normal-risk. As stated in the 2024 LTRA, elevated-risk areas meet resource adequacy criteria, but analysis indicates that extreme weather conditions are likely to cause a shortfall in area reserves. Eight of the 11 facilities fall within an elevated-risk area. Normal-risk areas are expected to have sufficient resources under a broad range of assessed conditions. The remaining three facilities fall within a normal-risk area.

The 2024 LTRA provides a risk summary for the areas categorized with an elevated risk.¹⁴ The risks for the MISO area (5 of the 11 facilities) were summarized as “Uncertainty around new resource additions and existing generator retirements results in resource adequacy risks. Above-normal generator outages during extreme weather can result in unserved energy or load loss.” Additionally, NERC determined that MISO's “elevated risk” classification may shift to “high risk” in the 2028-2031 timeframe, depending on new resource additions/retirements.¹⁵ For the PJM area (2 of the 11 facilities), the risks were summarized as “Resource additions are not keeping up with generator retirements and demand growth. Winter seasons replace summer as the higher-risk periods due to generator performance and fuel supply issues.” Finally, for the SPP area (1 of the 11 facilities), the risks were summarized as “Potential energy shortfalls during peak summer and winter conditions arise from low wind conditions and natural gas fuel risk.”

¹⁴ NERC, 2024 LTRA, Table 1.

¹⁵ NERC, “Statement on NERC's 2024 Long-Term Reliability Assessment,” June 17, 2025, https://www.nerc.com/news/Pages/Statement-on-NERC%E2%80%99s-2024-Long-Term-Reliability-Assessment.aspx.

2. U.S. Department of Energy (DOE)

In July 2025, the DOE published a report titled “Evaluating the Reliability and Security of the United States Electric Grid” to evaluate U.S. electric grid reliability and security (“2025 DOE Report”).¹⁶ The report highlights significant reliability risks facing the nation's electrical grid due to current retirement schedules and insufficient incremental additions. The report concludes that, if current retirement schedules and incremental additions proceed as anticipated, most regions will face unacceptable reliability risks within five years and the Nation's electric power grid will be unable to meet expected demand for artificial intelligence, data centers, manufacturing, and industrialization while maintaining affordable and reliable access to energy. The report identifies the retirement of power-generating assets, particularly coal and natural gas sources, as exacerbating resource adequacy issues, with 104 Gigawatts of firm capacity slated for retirement by 2030. This capacity is not being replaced equivalently, posing risks of outages during unfavorable weather conditions for wind and solar generation. Even in the absence of retirements, the DOE's model predicts a significant increase in outage risks by 2030.

¹⁶ U.S. Department of Energy, “Evaluating the Reliability and Security of the United States Electric Grid,” July 2025. This report is available in the rulemaking docket for this action.

IV. Revised Deadline for Cessation of Operations and Unit Closure

A. Revision to Section 257.103(f)(2)(iv)(B)

This rule proposes to extend the regulatory deadline for owners and operators that intend to cease coal-fired generation to complete the closure of their unlined CCR surface impoundments larger than 40 acres. Specifically, this deadline would be extended by three years, from October 17, 2028, to October 17, 2031. See revised section 257.103(f)(2)(iv)(B). This rule change would provide regulatory flexibility to allow placement of CCR in the affected impoundments, and therefore coal-fired electricity generation, to continue at these facilities for up to three additional years.

EPA is proposing this rule change in response to concerns that retirement of coal-fired power generating assets is exacerbating the resource adequacy problem. Given NERC's assessment that resource adequacy risk may increase in the MISO area from “elevated” to “high” in the 2028-2031 period, the Agency is proposing a 3-year extension to the deadline to cease placing waste in the relevant impoundments. This extension would allow coal-fired generation to continue for up to three additional years, specifically between 2028 and 2031 at these power plants. Furthermore, an extension of less than three years (e.g., one year) would not address resource adequacy concerns in the MISO area between 2028-2031. Currently EPA also lacks a basis to extend the deadline for more than three years. The Agency requests comment on the selected length of deadline extension and whether it should be shorter or longer than the proposed three years.

This rule's proposed deadline extension is anticipated to impact eleven Part A Rule facilities with unlined CCR surface impoundments that are still operating pursuant to the alternative closure requirements under section 257.103(f)(2). Five of these facilities fall within the electric power market operated by MISO, two within PJM, and one facility each in ERCOT, Northwest, Southwest, and SPP. As noted in Section III.C., the majority (i.e., eight) of these facilities are located in elevated-risk regions according to the 2024 LTRA.

This rule does not propose to revise the deadline for boiler cessation and unit closure applicable to CCR surface impoundments 40 acres or smaller. Section 257.103(f)(2)(iv)(A) required the owners and operators of these smaller impoundments both to cease operation of the coal-fired boiler and complete closure of the CCR surface impoundment no later than October 17, 2023. All of these CCR surface impoundments have ceased receiving CCR and non-CCR waste streams and those impoundments are no longer operating pursuant to the alternative closure provisions under section 257.103(f)(2). Therefore, a similar 3-year extension of the October 17, 2023, deadline would provide no relief.

Based on the information presented in Unit III of this preamble, EPA expects that most of the facilities with a pending Part A demonstration would choose to continue operating their coal-fired boiler(s) past their current anticipated closure date. The Agency realizes that some facilities are unlikely to change their current closure timelines because they are on schedule to cease operating coal-fired boilers in the near future (e.g., Naughton), are required to cease coal-fired generation by a specific date (e.g., Big Cajun II), or have plans to transition to generating electricity from a different fuel source (e.g., Intermountain, Coleto Creek). However, most facilities operating under a pending Part A demonstration have the capability of adjusting their unit closure timeframes, and EPA anticipates that these facilities would continue to operate during the proposed extended timeframe, thereby helping to mitigate potential resource adequacy concerns.

Additionally, EPA notes that a separate Agency action issued under the Clean Water Act proposes to extend the deadline for certain coal-fired electric generating units planning to close in the future (90 FR 47693, October 2, 2025).¹⁷ If finalized as proposed this extension would prevent premature closure due to other forcing mechanisms like CWA regulatory requirements taking effect. In other words, the 11 facilities impacted by today's proposal should be able to avail themselves of the 3-year extension proposed here without that timeframe being cut short by other retirement deadlines. EPA is not aware of other such broadly-applicable retirement deadlines that could effectively cut short the extension being proposed today, but the Agency requests public comment on any such complicating factors. Thus, EPA expects that the proposed deadline extension would directly promote resource adequacy by allowing most of the 11 facilities affected by this proposal to continue to operate for up to three additional years.

¹⁷ This rulemaking, proposed under the CWA, would (among other things) extend the date for existing steam electric power plants that would seek to achieve permanent cessation of coal combustion by December 31, 2034, to submit a notice of planned participation (NOPP), allowing utilities additional time to assess evolving power demand needed to inform operational planning and decision making.

In particular, EPA expects that extended coal-fired boiler operation would address resource adequacy in the electric power markets of MISO, SPP, and PJM. EPA estimates that continued operation of boilers currently slated to close would result in approximately 3,200 MW of capacity remaining online for up to three additional years in MISO. This additional capacity would address nearly 10% of the generation capacity retirements anticipated for MISO by 2030.¹⁸ In SPP, extended operation of coal-fired facilities would maintain 1,056 MW of generating capacity for up to three additional years, addressing about 14% of the anticipated capacity retirements expected by 2030.¹⁹ Likewise, EPA estimates that continued operation of the affected units in PJM would preserve approximately 2,200 MW of capacity for up to three additional years, which would offset about 13% of the anticipated retirements in PJM by 2030.²⁰

¹⁸ According to the 2025 DOE Report, MISO is anticipated to experience retirement of 32,345 MW of generation capacity by 2030.

¹⁹ According to the 2025 DOE Report, MISO is anticipated to experience retirement of 7,318 MW of generation capacity by 2030.

²⁰ According to the 2025 DOE Report, PJM is anticipated to experience retirement of 16,706 MW of generation capacity by 2030.

EPA requests public comment on the potential benefits and benefits reductions of extending the alternative closure deadline as described in this action. In particular, the Agency is soliciting feedback on the potential for this action, if finalized, to address projected energy supply shortages discussed in Unit III.C of this preamble, especially for baseload and peak load reliability regionally. The Agency anticipates that the additional flexibility created by allowing operators subject to the provisions of section 257.103(f)(2)(iv)(B) will result in extended operation of the associated coal-fired boilers and delay the capacity reductions described in the DOE Report. However, EPA requests public comment on the likelihood of this outcome, and specifically requests further information regarding which operators are likely to avail themselves of the additional three years to complete closure of their unlined surface impoundment(s).

EPA also requests public input on the accuracy and recency of information presented in Unit III of this preamble regarding the facilities potentially impacted by this action. The facility-specific summaries reflect the information presented in the 2020 Demonstrations submitted by these facilities and information in their most recent annual progress reports, most of which were prepared in around November 2024, but EPA realizes that plans may have changed since these files were submitted and updated last.

B. Implementation Considerations of the Deadline Extension

The existing regulations require facilities operating pursuant to a Part A Rule extension request to prepare an annual progress report. Section 257.103(f)(2)(x). The purpose of the annual progress report is to document the continued lack of alternative disposal capacity and the progress towards the closure of the CCR surface impoundment. As stated in the Part A Rule preamble, the annual progress report “must include any delays in the anticipated cease receipt of waste date and closure completion date that was submitted in the demonstration materials.” 85 FR 53550 (Aug. 28, 2020). Because the extended deadline will not automatically be applied to all current extension requests, owners and operators that will operate pursuant to the new extended deadline should document that fact in their next annual progress report. Owners and operators are not required to resubmit to EPA an updated demonstration documenting the new extended deadline.

Facilities operating CCR surface impoundments pursuant to Section 257.103(f)(2) are currently subject to comprehensive regulations requiring groundwater monitoring and, where necessary, remediation of contaminated groundwater. These regulations detail the types of groundwater monitoring systems required, sampling and analysis requirements, detection monitoring programs, assessment monitoring programs, assessment of corrective measures, selection of remedies, and implementation of groundwater corrective action programs. See Sections 257.90-257.98. Any facility that will operate pursuant to the new extended deadline in section 257.103(f)(2)(iv)(B) will continue to be subject to these requirements to detect releases of CCR constituents of concern and take action to remedy contamination when it exceeds established health thresholds.

Furthermore, the regulations also required facilities to submit a risk mitigation plan as part of their Part A demonstration. Section 257.103(f)(2)(v)(B). As stated in the Part A Rule, the risk mitigation plan describes the measures that will be taken to expedite any required corrective action to address any increased risk from continued operation of the CCR surface impoundment, which EPA will review as part of determining whether to grant the extension. If additional measures to mitigate the risk are necessary to ensure that the statutory standard is met, EPA will require those as a condition of granting the extension. 85 FR 53548.

V. The Projected Economic Impact of This Action

A. Introduction

EPA estimated the costs and benefits of this action in a Regulatory Impact Analysis (RIA), which is available in the docket for this action.

B. Affected Universe

The universe of facilities units and facilities affected by this proposed rule consists of CCR surface impoundments at coal fired electric utility plants that currently qualify for an extension under section 257.103(f)(2) based on their submission of a complete demonstration to EPA in compliance with the provisions of the 2020 CCR Part A Rule. EPA has identified 13 units at 11 facilities that may be affected by this proposed rule.

C. Baseline Costs

The baseline costs of this action consist of costs related to the closure of CCR surface impoundments in accordance with the requirements of the 2015 CCR final rule by October 17, 2028, the deadline for closure specified in the 2020 CCR Part A Rule.

D. Costs and Benefits of This Proposed Rule

This proposed rule is expected to result in cost savings from time value of money impacts (i.e., the value of delaying expenses) from conducting closure activities later than those activities would have otherwise occurred. Affected units will now be able to complete closure by October 17, 2031, an extension of 3 years. The estimated annualized cost savings attributable to this proposed rule are approximately $7-12 million per year when discounting at 3% and $17-27 million per year when discounting at 7%.

EPA also considered, but did not quantify, the potential effects of this proposed rule on grid reliability and air emissions. This action would enhance grid reliability by allowing a subset of coal-fired boilers to continue to operate beyond their currently scheduled retirement date. For a discussion of the potentially affected facilities and electric power markets see section III.B of the preamble. EPA expects the impact of this proposed rule on air emissions to be marginal because the number of potentially affected facilities who would be eligible for the extension and able to burn coal for an additional three years represents a small subset of the overall fleet of coal-fired generating units in the United States. Additional details can be found in the RIA for this action.

VI. Statutory and Executive Order Reviews

Additional information about these statutes and Executive Orders can be found at https://www.epa.gov/laws-regulations/laws-and-executive-orders.

A. Executive Order 12866: Regulatory Planning and Review and Executive Order 13563: Improving Regulation and Regulatory Review

This action is a significant regulatory action as defined under section 3(f)(1) of Executive Order 12866. Accordingly, it was submitted to the Office of Management and Budget (OMB) for review. Any changes made in response to E.O. 12866 review have been documented in the docket. The EPA prepared an analysis of the potential costs and benefits associated with this action. This analysis, “Regulatory Impact Analysis: Hazardous and Solid Waste Management System: Disposal of Coal Combustion Residuals from Electric Utilities; Extension of an Alternative Closure Requirement Deadline,” is available in the docket and is briefly summarized in Unit V of this preamble.

B. Executive Order 14192: Unleashing Prosperity Through Deregulation

This action is expected to be an Executive Order 14192 deregulatory action. Details on the estimated cost savings of this proposed rule can be found in EPA's analysis of the potential costs and benefits associated with this action.

C. Paperwork Reduction Act (PRA)

This action does not impose any new information collection burden under the PRA. An Information Collection Request covering the information collection activities contained in the existing Disposal of Coal Combustion Residuals From Electric Utilities ICR has been submitted for OMB's approval under the temporary OMB control number 2050-0223.

D. Regulatory Flexibility Act (RFA)

I certify that this action will not have a significant economic impact on a substantial number of small entities under the RFA. In making this determination, EPA concludes that the impact of concern for this rule is any significant adverse economic impact on small entities and that the Agency is certifying that this rule will not have a significant economic impact on a substantial number of small entities because the rule relieves regulatory burden on the small entities subject to the rule. The proposed rule does not change current regulatory burdens, but rather just extends the timeline necessary to meet them, which should reduce impacts on all affected facilities. The rule relieves burden by extending the deadline for owners and operators of coal boilers operating under a Part A demonstration to cease operation and close their unlined CCR surface impoundment. This delay affords all entities, including small entities, more time to comply, and reduces compliance costs by pushing them into the future. We have therefore concluded that this action will relieve regulatory burden for all directly regulated small entities.

E. Unfunded Mandates Reform Act (UMRA)

This action does not contain an unfunded mandate of $100 million (adjusted annually for inflation) or more (in 1995 dollars) as described in UMRA, 2 U.S.C. 1531-1538, and does not significantly or uniquely affect small governments. The action imposes no enforceable duty on any state, local or Tribal governments or the private sector.

F. Executive Order 13132: Federalism

This action does not have federalism implications. It will not have substantial direct effects on the States, on the relationship between the national government and the States, or on the distribution of power and responsibilities among the various levels of government.

G. Executive Order 13175: Consultation and Coordination With Indian Tribal Governments

This action does not have Tribal implications as specified in Executive Order 13175. The rule relieves burden by extending the deadline for owners and operators of coal boilers operating under a Part A demonstration to cease operation and close their unlined CCR surface impoundment. This rule does not impose any additional requirements. Thus, Executive Order 13175 does not apply to this action.

H. Executive Order 13045: Protection of Children From Environmental Health Risks and Safety Risks

Executive Order 13045 directs federal agencies to include an evaluation of the health and safety effects of the planned regulation on children in federal health and safety standards and explain why the regulation is preferable to potentially effective and reasonably feasible alternatives. This action is not subject to Executive Order 13045 because the EPA does not believe the environmental health or safety risks addressed by this action present a disproportionate risk to children. The 2020 Part A final rule required all units applying for extensions to demonstrate full compliance with the applicable provisions of the 2015 final CCR rule at 40 CFR 257 subpart D, including all structural integrity, corrective action and other requirements needed to safeguard human health and the environment. Because all units potentially affected by this proposed rule are subject to a Part A extension, it is unlikely that changes in closure schedule under this proposed rule will have any specific impacts to children's health. However, EPA's Policy on Children's Health applies to this action. Information on how the Policy was applied is available under “Children's Environmental Health” in the Supplementary Information section of this preamble.

I. Executive Order 13211: Actions Concerning Regulations That Significantly Affect Energy Supply, Distribution or Use

This action is not a “significant energy action” because it is not likely to have a significant adverse effect on the supply, distribution or use of energy. This proposed rule affords certain facilities additional flexibility in the timing of the closure of their coal-fired boilers and CCR disposal unit. Assuming that these facilities are economically optimizing their operations, this additional flexibility is not expected to result in any adverse impacts or outcomes with regard to fuel supply or production, or energy costs. The proposed rule, which reduces costs on a time value of money basis, will not result in any adverse electricity price or energy market impacts.

J. National Technology Transfer and Advancement Act (NTTAA)

This rulemaking does not involve technical standards.

List of Subjects in 40 CFR Part 257

Environmental protection, Beneficial use, Coal combustion products, Coal combustion residuals, Coal combustion waste, Disposal, Hazardous waste, Landfill, Surface impoundment.

Lee Zeldin,
Administrator.

For the reasons set out in the preamble, title 40, chapter I, of the Code of Federal Regulations is proposed to be amended as follows:

PART 257—CRITERIA FOR CLASSIFICATION OF SOLID WASTE DISPOSAL FACILITIES AND PRACTICES

1. The authority citation for part 257 continues to read as follows:

Authority: 42 U.S.C. 6907(a)(3), 6912(a)(1), 6927, 6944, 6945(a) and (d); 33 U.S.C. 1345(d) and (e).

2. Amend § 257.103 by revising paragraph (f)(2)(iv)(B) to read as follows:

§ 257.103 Alternative closure requirements.

* * * * *

(f) * * *

(2) * * *

(iv) * * *

(B) For a CCR surface impoundment that is larger than 40 acres, the coal-fired boiler(s) must cease operation, and the CCR surface impoundment must complete closure no later than October 17, 2031.

* * * * *

[FR Doc. 2025-21597 Filed 11-26-25; 8:45 am]

BILLING CODE 6560-50-P